DEPARTMENT OF ENERGY

10 CFR Part 851

Worker Safety and Health Program: Safety Conscious Work Environment

AGENCY: Office of the General Counsel, Department of Energy (DOE).

ACTION: Notice of denial of petition for rulemaking.

SUMMARY: The Department of Energy received a petition from the Hanford Challenge on August 18, 2009, requesting the initiation of a rulemaking regarding safety policies at DOE's nuclear facilities. The petition calls for DOE to establish by regulation a safety program using the Nuclear Regulatory Commission's “Safety-Conscious Work Environment” guidelines as a model. DOE published this petition and a request for comment on October 16, 2009. DOE denies the petition for rulemaking.

DATES: This notice is effective November 30, 2010.

FOR FURTHER INFORMATION CONTACT: Steven L. Krahn, Acting Deputy Assistant Secretary, Safety Management and Operations, Environmental Management Office, U.S. Department of Energy, 1000 Independence Avenue, SW., Washington, DC 20585-0121, (202) 586-2281, e-mail: steve.krahn@em.doe.gov.

SUPPLEMENTARY INFORMATION: DOE received numerous comments in response to the notice of the Hanford Challenge petition for rulemaking, published on October 16, 2009. 74 FR 53190. The vast majority of those comments recommended denial of the petition, for two reasons. First, DOE already has numerous regulations in place to protect and encourage employees to raise work-related concerns. Second, not only would instituting a “Safety-Conscious Work Environment” by regulation be redundant, but it would also fail to add any additional protections not already in place. The comments DOE received in favor of the petition were generally related to the existing culture of safety and whistleblower protection. The main concern in these comments was that DOE facilities would be unsafe without an environment where employees could raise concerns without fear of retaliation or reprisal.

After reviewing the existing protections, DOE agrees with the majority of the comments that granting the petition for rulemaking would be unnecessary. Currently, employee protection and safety programs exist in the following statutory and regulatory authorities: 42 U.S.C. 5851, 10 CFR part 708, 10 CFR part 851, 29 CFR 1960.28, 48 CFR 970.0309, and 29 CFR part 24, as well as numerous internal DOE orders and directives including DOE's Employee Concerns Program (DOE Order 442.1A) and Differing Professional Opinions Manual (DOE Manual 442.1-1). These authorities provide sufficient guidance and protections in which employees can properly raise concerns that will be promptly reviewed and appropriately resolved with timely feedback.

DOE denies the petition for rulemaking because the existing regulations provide legal protection to employees while adequately promoting worker involvement in raising and resolving concerns. Implementing the “Safety-Conscious Work Environment” would be redundant and would fail to add any substantive protections not currently in place. While the petitioner believes that the existing regulations are inadequate, neither DOE's internal review nor the comments submitted in response to the petition demonstrate that to be the case.

Nevertheless, DOE recognizes that the existing authorities governing safety and employee protection programs can be diverse and confusing. In an attempt to provide as much clarity on this issue as possible, DOE has created a Web site summarizing the existing law and providing a central location consolidating all the relevant standards on this issue. This Web site can be accessed at: http://www.gc.energy.gov/1630.htm. The Department believes that this Web site will increase awareness of the existing protections for DOE employees and DOE contractors and will address the underlying concerns evident in the Hanford Challenge petition for rulemaking and the comments in support thereof.

Issued in Washington, DC, on November 23, 2010.
Scott Blake Harris,
General Counsel.

[FR Doc. 2010-30065 Filed 11-29-10; 8:45 am]

BILLING CODE 6450-01-P